DEPARTMENT OF COMMERCE

National Oceanic and Atmospheric Administration

50 CFR Parts 600 and 635

[Docket No. 080519678-0313-03]

RIN 0648-AW65

Atlantic Highly Migratory Species; Atlantic Shark Management Measures; Amendment 3

AGENCY: National Marine Fisheries Service (NMFS), National Oceanic and Atmospheric Administration (NOAA), Commerce.

ACTION: Final rule; correction.

SUMMARY: This document contains a correction to final regulations that were published on June 1, 2010. This change ensures that the process is preserved for adjusting annual shark quotas based on over- and underharvests. This correction makes a change to amendatory instructions in the final rule to accurately reflect NMFS' intention to effect a conforming amendment to 50 CFR part 635.

DATES: Effective August 17, 2010.

FOR FURTHER INFORMATION CONTACT: Karyl Brewster-Geisz or LeAnn Southward Hogan at 301-713-2347 or (fax) 301-713-1917.

SUPPLEMENTARY INFORMATION: The final rule published on June 1, 2010 (75 FR 30484), and implemented Amendment 3 to the 2006 Consolidated Highly Migratory Species (HMS) Fishery Management Plan (FMP).

The correction amends § 635.27 (b) in Title 50 of the CFR. In the amendatory instructions in the published final rule (75 FR 30484), instruction 12a revised 50 CFR 635.27 (b)(1)(i) through (v), relating to, among other things, pelagic shark quotas and annual quota adjustments. The instructions, however, inadvertently omitted instructions to make a conforming amendment requiring removal of § 635.27 (b)(1)(vii), which relate specifically to annual quota adjustments. Because of the error, § 635.27 (b)(1)(vii) is duplicative and inconsistent with § 635.27 (b)(1)(i). The new § 635.27 (b)(1)(i) includes much of the same information and include only minor changes from § 635.27 (b)(1)(vii). This duplication of provisions providing inconsistent treatment of the same amendment issue will likely cause unnecessary confusion within the regulated fishing industry and among fishery managers as it creates ambiguous guidelines and two separate standards for adjusting annual shark quotas based on over- and underharvests for all the federally managed shark species in the Atlantic shark fishery.

This correction makes a change to amendatory instructions in the final rule to accurately reflect NMFS' intention to effect a conforming amendment to 50 CFR 635.27 (b) by including instructions in the final rule for the removal of § 635.27 (b)(1)(vii).

Classification

Pursuant to 5 U.S.C. 553(b)(B), the Assistant Administrator of Fisheries(AA) finds good cause to waive prior notice and opportunity for public comment otherwise required by this section. The corrections made by this rule do not make any substantive changes in the rights or obligations of fishermen managed under Amendment 3 to the 2006 Consolidated Highly Migratory Species Fishery Management Plan implemented in the June 1, 2010, final rule. No aspect of this action is controversial, and no change in operating practices in the fishery is required. It was not NMFS' intent to impose duplicative regulations in the same section. These errors should be corrected immediately to eliminate potential confusion by the regulated public. Removing the duplicative paragraphs without notice does not create problems for fishermen in terms of compliance with regulations because the duplicative paragraphs deal with the adjustment of quotas done by fishery managers. However, if left unrevised, these duplicative measures create ambiguous guidance and two separate standards for fishery managers when adjusting annual shark quotas based on over- and underharvests for all the federally managed shark species in the Atlantic shark fishery. For the same reasons, the AA finds good cause under 5 U.S.C. 553(d)(3) to waive the 30-day delay in effective date. Because prior notice and opportunity for public comment are not required for this rule by 5 U.S.C. 553, or any other law, the analytical requirements of the Regulatory Flexibility Act, 5 U.S.C. 601 et seq., do not apply.

Need for Correction

Accordingly, in the final rule published on June 1, 2010 (75 FR 30484), on page 30526, column 2, amendatory instruction number 12a is revised to read as follows:

§ 635.27 [Amended]

12a. In § 635.27, paragraphs (b)(1)(i) through (v) are revised to read as follows. Paragraph (b)(1)(vii) is removed.

Authority: 16 U.S.C. 1801 et seq.

Dated: August 11, 2010.
Samuel D. Rauch III,
Deputy Assistant Administrator for Regulatory Programs, National Marine Fisheries Service.

[FR Doc. 2010-20199 Filed 8-16-10; 8:45 am]

BILLING CODE 3510-22-S